DEPARTMENT OF COMMERCE

International Trade Administration

[A-201-836]

Light-Walled Rectangular Pipe and Tube From Mexico: Preliminary Results of Antidumping Duty Administrative Review; 2021-2022

AGENCY: Enforcement and Compliance, International Trade Administration, Department of Commerce.

SUMMARY: The U.S. Department of Commerce (Commerce) preliminarily finds that Maquilacero S.A. de C.V. (Maquilacero) and Tecnicas de Fluidos S.A. de C.V. (TEFLU), (collectively, Maquilacero/TEFLU) and Regiomontana de Perfiles y Tubos S. de R.L. de C.V. (Regiopytsa) sold light-walled rectangular pipe and tube (LWRPT) from Mexico at less than normal value during the period of review (POR), August 1, 2021, through July 31, 2022. We invite interested parties to comment on these preliminary results.

DATES: Applicable September 8, 2023.

FOR FURTHER INFORMATION CONTACT: Charles Doss or John Conniff, AD/CVD Operations, Office III, Enforcement and Compliance, International Trade Administration, U.S. Department of Commerce, 1401 Constitution Avenue NW, Washington, DC 20230; telephone: (202) 482-4474 and (202) 482-1009, respectively.

SUPPLEMENTARY INFORMATION:

Background

On August 5, 2008, Commerce published in the Federal Register the antidumping duty order on LWRPT from Mexico.¹ On August 2, 2022, Commerce published in the Federal Register a notice of opportunity to request administrative reviews of the Order.² On October 11, 2022, based on timely requests for review, in accordance with section 751(a)(1) of the Tariff Act of 1930, as amended (the Act) and 19 CFR 351.221(c)(1)(i), Commerce initiated an administrative review of the Order covering 20 companies.³ On January 3, 2023, we selected Maquilacero/TEFLU and Regiopytsa for individual examination as the mandatory respondents in this administrative review.⁴ Pursuant to section 751(a)(3)(A) of the Act, Commerce extended the deadline for the preliminary results until August 31, 2023.⁵

¹ See Light-Walled Rectangular Pipe and Tube from Mexico, the People's Republic of China and Republic of Korea: Antidumping Duty Orders; Light-Walled Rectangular Pipe and Tube from the Republic of Korea: Notice of Amended Final Determination of Sales at Less Than Fair Value, 73 FR 45403 (August 5, 2008) (Order).

² See Antidumping or Countervailing Duty Order, Finding, or Suspended Investigation; Opportunity to Request Administrative Review and Join Annual Inquiry Service List, 87 FR 47187 (August 2, 2022).

³ See Initiation of Antidumping and Countervailing Duty Administrative Reviews, 87 FR 61278 (October 11, 2022) (Initiation Notice). We note that Commerce has previously determined that Regiomontana de Perfiles y Tubos S. de R.L. de C.V. is the successor-in-interest to Regiomontana de Perfiles y Tubos S.A. de C.V. and that Maquilacero and TEFLU comprise a single entity. See, e.g., Light-Walled Rectangular Pipe and Tube from Mexico: Preliminary Results and Partial Rescission of Antidumping Duty Administrative Review; 2018-2019, 85 FR 83886 (December 23, 2020), and accompanying Preliminary Decision Memorandum at 6, unchanged in Light Walled Rectangular Pipe and Tube from Mexico: Final Results of Antidumping Duty Administrative Review: 2018-2019, 86 FR 33646 (June 25, 2021).

⁴ See Memorandum, “Respondent Selection,” dated January 3, 2023.

⁵ See Memorandum, “Extension of Deadline for Preliminary Results of Antidumping Duty Administrative Review,” dated April 3, 2023.

For a complete description of the events that followed the initiation of the review, see the Preliminary Decision Memorandum.⁶ A list of topics included in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results: Light-Walled Rectangular Pipe and Tube from Mexico; 2021-2022,” dated concurrently with, and hereby adopted by, this notice (Preliminary Decision Memorandum).

Scope of the Order

The merchandise subject to the Order is certain light-walled rectangular pipe and tube from Mexico. The LWRPT subject to the Order is currently classified under the Harmonized Tariff Schedule of the United States (HTSUS) subheadings 7306.61.5000 and 7306.61.7060. While HTSUS subheadings are provided for convenience and Customs purposes; the written description of the scope of the Order is dispositive.

For a complete description of the scope, see the Preliminary Decision Memorandum.

Methodology

Commerce is conducting this review in accordance with section 751(a) of the Act. Export price was calculated in accordance with section 772 of the Act. Normal value was calculated in accordance with section 773 of the Act. For a full description of the methodology underlying our conclusions, see the Preliminary Decision Memorandum.

Rate for Non-Examined Companies

For the rate for companies not selected for individual examination in an administrative review, generally, Commerce looks to section 735(c)(5) of the Act, which provides instructions for calculating the all-others rate in a less-than-fair-value (LTFV) investigation. Under section 735(c)(5)(A) of the Act, the all-others rate is normally “an amount equal to the weighted average of the estimated weighted-average dumping margins established for exporters and producers individually investigated, excluding any zero or de minimis margins, and any margins determined entirely {on the basis of facts available}.” In this administrative review, we calculated weighted-average dumping margins for Maquilacero/TEFLU and Regiopytsa that are not zero, de minimis, or based entirely on total facts available. For the respondents that were not selected for individual examination in this administrative review, we have assigned to them the simple average of the weighted-average dumping margins calculated for Maquilacero/TELFLU and Regiopytsa, consistent with the guidance in section 735(c)(5)(B) of the Act.⁷

⁷ See Preliminary Decision Memorandum at “Companies Not Selected For Individual Examination;” see also Memorandum, “Calculation of Non-Selected Rate in Preliminary Results,” dated concurrently with this notice; Ball Bearings and Parts Thereof from France, Germany, Italy, Japan, and the United Kingdom: Final Results of Antidumping Duty Administrative Reviews, Final Results of Changed-Circumstances Review, and Revocation of an Order in Part, 75 FR 53661, 53663 (September 1, 2010).

Preliminary Results of Review

We preliminarily determine the following estimated weighted-average dumping margins exist for the period August 1, 2021, through July 31, 2022:

Exporter or producer | Weighted- average dumping margin (percent)
Maquilacero S.A. de C.V./Tecnicas de Fluidos S.A. de C.V | 5.08
Regiomontana de Perfiles y Tubos S. de R.L. de C.V | 1.29
Aceros Cuatro Caminos S.A. de C.V | 3.19
Arco Metal S.A. de C.V | 3.19
Fabricaciones y Servicios de Mexico | 3.19
Galvak, S.A. de C.V | 3.19
Grupo Estructuras y Perfiles | 3.19
Industrias Monterrey S.A. de C.V | 3.19
Internacional de Aceros, S.A. de C.V | 3.19
Nacional de Acero S.A. de C.V | 3.19
PEASA-Productos Especializados de Acero | 3.19
Perfiles LM, S.A. de C.V | 3.19
Productos Laminados de Monterrey S.A. de C.V | 3.19
Talleres Acero Rey S.A. de C.V | 3.19
Ternium Mexico S.A. de C.V | 3.19
Tuberias Aspe S.A de C.V | 3.19
Tuberia Laguna, S.A. de C.V | 3.19
Tuberias y Derivados S.A. de C.V | 3.19

Disclosure and Public Comment

We intend to disclose the calculations performed for these preliminary results to interested parties within five days after the date of publication of this notice in accordance with 19 CFR 351.224(b).

Interested parties will be notified of the timeline for the submission of such case briefs and written comments at a later date. Rebuttal briefs, limited to issues raised in the case briefs, may be filed not later than seven days after the date for filing case briefs.⁸ Parties who submit case or rebuttal briefs in this proceeding are encouraged to submit with each argument: (1) a statement of the issue; (2) a brief summary of the argument; and (3) a table of authorities.⁹ Executive summaries should be limited to five pages total, including footnotes.

⁸ See 19 CFR 351.309(d)(1).

⁹ See 19 CFR 351.309(c)(2) and (d)(2).

Pursuant to 19 CFR 351.310(c), interested parties who wish to request a hearing must submit a written request to the Assistant Secretary for Enforcement and Compliance, filed electronically via Commerce's electronic records system, ACCESS, within 30 days of the date of publication of this notice in the Federal Register.¹⁰ Requests should contain: (1) the party's name, address, and telephone number; (2) the number of participants; and (3) a list of issues parties intend to discuss. Issues raised in the hearing will be limited to those raised in the respective case and rebuttal briefs. If a request for a hearing is made, Commerce intends to hold the hearing at a time and date to be determined. Parties should confirm the date, time, and location of the hearing two days before the scheduled date.

¹⁰ See 19 CFR 351.310(c).

All submissions to Commerce should be filed using ACCESS.¹¹ An electronically filed document must be received successfully in its entirety by ACCESS by 5 p.m. Eastern Time on the date that the document is due. Note that Commerce had modified certain of its requirements for serving documents containing business proprietary information, until further notice.¹²

¹¹ See 19 CFR 351.303.

¹² See Temporary Rule Modifying AD/CVD Service Requirements Due to COVID 19; Extension of Effective Period, 85 FR 41363 (July 10, 2020).

Final Results of Review

Unless extended, we intend to issue the final results of this administrative review, which will include the results of our analysis of all issues raised in the case and rebuttal briefs, within 120 days of publication of these preliminary results in the Federal Register.¹³

¹³ See section 751(a)(3)(A) of the Act; and 19 CFR 351.213(h).

Verification

On January 19, 2023, Nucor Tubular Products Inc., a domestic interested party, requested that Commerce conduct verification of the information submitted in the Maquilacero/TEFLU's responses.¹⁴ Accordingly, as provided in section 782(i)(3) of the Act, Commerce intends to verify Maquilacero/TEFLU's information that will be relied upon in determining the final results of review.

¹⁴ See Petitioner's Letter, “Request for Verification,” dated January 19, 2023.

Assessment Rates

Upon issuance of the final results of this administrative review, pursuant to section 751(a)(2)(A) of the Act, Commerce shall determine, and U.S. Customs and Border Protection (CBP) shall assess, antidumping duties on all appropriate entries of subject merchandise.

For individually examined respondents whose weighted-average dumping margin is not zero or de minimis (i.e., less than 0.50 percent), we will calculate importer-specific ad valorem antidumping duty assessment rates based on the ratio of the total amount of dumping calculated for the importer's examined sales to the total entered value of those same sales in accordance with 19 CFR 351.212(b)(1). If the respondent has not reported entered values, we will calculate a per-unit assessment rate for each importer by dividing the total amount of dumping calculated for the examined sales made to that importer by the total quantity associated with those sales. To determine whether an importer-specific, per-unit assessment rate is de minimis, in accordance with 19 CFR 351.106(c)(2), we also will calculate an importer-specific ad valorem ratio based on estimated entered values. Where either a respondent's weighted average dumping margin is zero or de minimis, or an importer-specific ad valorem assessment rate is zero or de minimis, we intend to instruct CBP to liquidate appropriate entries without regard to antidumping duties.¹⁵

¹⁵ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by each individually examined respondent for which the producer did not know that the merchandise was destined for the United States, we will instruct CBP to liquidate such entries at the all-others rate (3.76 percent) if there is no rate for the intermediate company(ies) involved in the transaction.¹⁶

¹⁶ See Order, 73 FR at 45405; see also Antidumping and Countervailing Duty Proceedings: Assessment of Antidumping Duties, 68 FR 23954 (May 6, 2003).

For those companies which were not individually examined, we will instruct CBP to assess antidumping duties at an ad valorem rate equal to the weighted-average dumping margin determined for the non-examined companies in the final results of this review.

The final results of this review shall be the basis for the assessment of antidumping duties on entries of merchandise covered by this review where applicable. Commerce intends to issue assessment instructions to CBP no earlier than 41 days after the date of publication of the final results of this review in the Federal Register, in accordance with 19 CFR 356.8(a).

Cash Deposit Requirements

The following deposit requirements will be effective for all shipments of the subject merchandise entered, or withdrawn from warehouse, for consumption on or after the publication date of the final results of this administrative review, as provided by section 751(a)(2)(C) of the Act: (1) the cash deposit rate for each specific company listed above will be equal to the weighted-average dumping margin established in the final results of this administrative review, except if the rate is less than 0.50 percent and, therefore, de minimis within the meaning of 19 CFR 351.106(c)(1), in which case the cash deposit rates will be zero; (2) for previously reviewed or investigated companies not participating in this review, the cash deposit rate will continue to be the company-specific rate published for the most recently completed segment of this proceeding in which the producer or exporter participated; (3) if the exporter is not a firm covered in this review, a prior review, or the original investigation but the producer is, the cash deposit rate will be the rate established for the most recently completed segment of this proceeding for the producer of the subject merchandise; and (4) the cash deposit rate for all other producers or exporters will continue to be the all-others rate of 3.76 percent.¹⁷

¹⁷ See Order, 73 FR at 45405.

These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification to Interested Parties

We are issuing and publishing these preliminary results of review in accordance with sections 751(a)(1) and 777(i)(1) of the Act, 19 CFR 351.213(h)(2), and 19 CFR 351.221(b)(4).

Dated: August 31, 2023.
Lisa W. Wang,
Assistant Secretary for Enforcement and Compliance.

Appendix—List of Topics Discussed in the Preliminary Decision Memorandum

I. Summary

II. Background

III. Scope of the Order

IV. Companies Not Selected for Individual Examination

V. Discussion of the Methodology

VI. Currency Conversion

VII. Recommendation

[FR Doc. 2023-19385 Filed 9-7-23; 8:45 am]

BILLING CODE 3510-DS-P